DEPARTMENT OF HEALTH AND HUMAN SERVICES

42 CFR Part 83

RIN 0920-ZA00

Procedure for Designating Classes of Employees as Members of the Special Exposure Cohort Under the Energy Employees Occupational Illness Compensation Program Act of 2000

AGENCY: Department of Health and Human Services.

ACTION: Notice of proposed rulemaking; extension of comment period.

SUMMARY: The Department of Health and Human Services (HHS) is extending the comment period for the proposed rule on procedures for designating classes of employees as members of the Special Exposure Cohort under the Energy Employees Occupational Illness Program Act (EEOICPA) that was published in the Federal Register on Friday, March 7, 2003.

DATES: Any public written comments on the proposed rule must be received on or before May 6, 2003.

ADDRESSES: Address written on the notice of proposed rulemaking to the NIOSH Docket Officer. Electronically e-mail comments to: NIOCINDOCKET@CDC.GOV. Alternatively, submit printed comments to NIOSH Docket Office, Robert A. Taft Laboratories, MS-C34, 4676 Columbia Parkway, Cincinnati, OH 45226.

FOR FURTHER INFORMATION CONTACT: Larry Elliott, Director, Office of Compensation Analysis and Support, National Institute for Occupational Safety and Health, 4676 Columbia Parkway, Cincinnati, Ohio 45226, Telephone 513-841-4498 (this is not a toll free number). Information requests may also be submitted by e-mail to OCAS@CDC.GOV.

SUPPLEMENTARY INFORMATION: On March 7, 2003, HHS published a notice of proposed rulemaking proposing a procedure for designating classes of employees as members of the Special Exposure Cohort under EEOICPA, (See FR Vol. 68, No. 45, 11294). The notice included a public comment period that was to end on April 7, 2003. On March 7, 2003, NIOSH convened the Advisory Board on Radiation and Worker Health to review the proposed rule. The Board recommended that the comment period be extended by 15 days, for a total of 45 days, to ensure the public has adequate time to review and comment on the proposal. HHS agrees with the Board that a longer comment period is desirable, and is now providing for a 60-day comment period.

To provide the public with additional time to review and comment on the proposed rule, HHS is extending the public comment period to May 6, 2003.

Dated: March 21, 2003.
Tommy G. Thompson,
Secretary.

[FR Doc. 03-7243 Filed 3-21-03; 2:52 pm]

BILLING CODE 4160-17-P